DEPARTMENT OF TRANSPORTATION

Federal Aviation Administration

Second Meeting: RTCA Special Committee 225: Rechargeable Lithium Batteries and Battery Systems—Small and Medium Sizes

AGENCY: Federal Aviation Administration (FAA), DOT.

ACTION: Notice of RTCA Special Committee 225 meeting: Rechargeable Lithium Batteries and Battery Systems—Small and Medium Sizes.

SUMMARY: The FAA is issuing this notice to advise the public of a meeting of RTCA Special Committee 225: Rechargeable Lithium Batteries and Battery Systems—Small and Medium Sizes.

DATES: The meeting will be held May 24-25, 2011, from 9 a.m. to 5 p.m.

ADDRESSES: The meeting will be held at RTCA, Inc., 1828 L Street, NW., Suite 805, Washington, DC, 20036.

FOR FURTHER INFORMATION CONTACT: RTCA Secretariat, 1828 L Street, NW., Suite 805, Washington, DC, 20036, telephone (202) 833-9339 or e-mail jiverson@rtca.org, fax (202) 833-9434, Web site http://www.rtca.org.

SUPPLEMENTARY INFORMATION: Pursuant to section 10(a)(2) of the Federal Advisory Committee Act (Pub. L. 92-463, 5 U.S.C., and Appendix 2), notice is hereby given for a Special Committee 225, Rechargeable Lithium Batteries and Battery Systems—Small and Medium Sizes.

Agenda

Tuesday May 24, 2011

• Welcome/Introductions/Administrative Remarks.

• Review of the meeting agenda.

• Review and approval of summary from the first plenary meeting RTCA paper no. 064-11/SC225-002.

• UL and IEC presentation.

• Review working group progress on “permanently installed”.

• Review working group progress on AC-25-1352-1A and related FAA Special Conditions.

• Test Data Availability.

• Working Group to review:

• IEC 62133.

• Underwriters Laboratories (UL) standards 1642, 2054, 60950-1.

• United Nations (UN) (T1-T8) section 38.3.

• RTCA/DO-160 (Altitude, Rapid Decompression).

• RTCA/DO-311.

• Review Agenda for Wednesday, May 25.

Wednesday May 25, 2011

• Review Agenda, Other Actions.

• Working Groups meeting.

• Working Group report, review progress and actions.

• Other Business.

• Establish Agenda for Third Plenary Meeting.

• Administrative Items (Meeting Schedule).

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 14, 2011.
Robert L. Bostiga,
RTCA Advisory Committee.

[FR Doc. 2011-9487 Filed 4-19-11; 8:45 am]

BILLING CODE 4910-13-P